NATIONAL AERONAUTICS AND SPACE ADMINISTRATION

[Notice: 22-064]

NASA Advisory Council; STEM Engagement Committee; Meeting

AGENCY: National Aeronautics and Space Administration.

ACTION: Notice of meeting.

SUMMARY: In accordance with the Federal Advisory Committee Act, the National Aeronautics and Space Administration announces a meeting of the Science, Technology, Engineering and Mathematics (STEM) Engagement Committee of the NASA Advisory Council (NAC). This Committee reports to the NAC.

DATES: Friday, September 30, 2022, 10 a.m.-1 p.m. eastern time.

ADDRESSES: Virtual meeting by dial-in teleconference and WebEx only.

FOR FURTHER INFORMATION CONTACT: Dr. Tara Strang, NAC STEM Engagement Committee, NASA Headquarters, Washington, DC 20546, (216) 410-4335 or tara.m.strang@nasa.gov.

SUPPLEMENTARY INFORMATION: This meeting will be held virtually and will be available telephonically and by WebEx only. You must use a touch tone phone to participate in this meeting. Any interested person may dial the toll-free access number 415-527-5035, and then the access code: 276 073 74167 followed by the # sign. To join via WebEx, use link: https://nasaenterprise.webex.com/nasaenterprise/j.php?MTID=m456e54ffb94da99354c94f1f0095c5ab and the meeting number and access code is 2760 737 4167 and the password is Zc2ZvP9KQ?4 (Password is case sensitive.) NOTE: If dialing in, please “mute” your telephone. The agenda for the meeting will include the following:

—Opening Remarks by Chair

—STEM Engagement Updates on Topics of Interest

—STEM Engagement Partnerships

—Formulation of New Findings and Recommendations

—Other Related Topics.

It is imperative that the meeting be held on this date to accommodate the scheduling priorities of the key participants.

Carol J. Hamilton,
Acting Advisory Committee Management Officer, National Aeronautics and Space Administration.

[FR Doc. 2022-18873 Filed 8-31-22; 8:45 am]

BILLING CODE 7510-13-P